DEPARTMENT OF COMMERCE

National Oceanic and Atmospheric Administration

[RTID 0648-XB420]

Management Track Assessment for Georges Bank Atlantic Cod and Gulf of Maine Atlantic Cod

AGENCY: National Marine Fisheries Service (NMFS), National Oceanic and Atmospheric Administration (NOAA), Commerce.

ACTION: Notice of public meeting.

SUMMARY: NMFS and the Assessment Oversight Panel (AOP) will convene the Management Track Assessment Peer Review Meeting for the purpose of reviewing both Georges Bank and Gulf of Maine Atlantic cod stocks. The Management Track Assessment Peer Review is a formal scientific peer-review process for evaluating and presenting stock assessment results to managers for fish stocks in the offshore U.S. waters of the northwest Atlantic. Assessments are prepared by the lead stock assessment analyst and reviewed by an independent panel of stock assessment experts called the AOP. The public is invited to attend the presentations and discussions between the review panel and the scientists who have participated in the stock assessment process.

DATES: The public portion of the Management Track Assessment Peer Review Meeting will be held from September 13, 2021—September 15, 2021. The meeting will conclude on September 15, 2021 at 5 p.m. Eastern Standard Time. Please see SUPPLEMENTARY INFORMATION for the daily meeting agenda.

ADDRESSES: The meeting will be held via Google Meet (https://meet.google.com/bqy-awcd-kqv).

FOR FURTHER INFORMATION CONTACT: Michele Traver, phone: 508-495-2195; email: michele.traver@noaa.gov.

SUPPLEMENTARY INFORMATION: For further information, please visit the Northeast Fisheries Science Center (NEFSC) website at https://www.fisheries.noaa.gov/new-england-mid-atlantic/population-assessments/fishery-stock-assessments-new-england-and-mid-atlantic. For additional information about the AOP meeting and the stock assessment peer review, please visit the NMFS/NEFSC web page at https://www.fisheries.noaa.gov/new-england-mid-atlantic/population-assessments/management-track-stock-assessments.

Daily Meeting Agenda—Management Track Peer Review Meeting

The agenda is subject to change; all times are approximate and may be changed at the discretion of the Peer Review Chair.

Monday, September 13, 2021
Time | Activity | Lead
10 a.m.-9:15 a.m | Welcome/Logistics/Introductions/Process | Russ Brown/Michele Traver.
10:15 a.m.-10:30 a.m | Background/AOP Review | Russ Brown.
10:30 a.m.-11:45 a.m | Gulf of Maine Cod | Charles Perretti.
11:45 a.m. -12:15 p.m | Discussion/Review/Summary | Review Panel.
12:15 p.m.-12:30 p.m | Public Comment | Public.
12:30 p.m.-1:30 p.m | Lunch
1:30 p.m.-3 p.m | Gulf of Maine Cod cont. | Charles Perretti.
3 p.m.-3:15 p.m | Break
3:15 p.m.-3:45 p.m | Gulf of Maine Cod cont. | Charles Perretti.
3:45 p.m.-4:15 p.m | Discussion/Review/Summary | Review Panel.
4:15 p.m.-4:30 p.m | Public Comment | Public.
4:30 p.m | Adjourn

Tuesday September 14, 2021
Time | Activity | Lead
9 a.m.-9:15 a.m | Brief Overview and Logistics | Michele Traver/Richard Merrick (Chair).
9:15 a.m.-10:30 a.m | Georges Bank Cod | Kathy Sosebee.
10:30 a.m.-10:45 a.m | Break
10:45 a.m.-11:45 a.m | Georges Bank Cod cont. | Kathy Sosebee.
11:45 a.m.-12:15 p.m | Discussion/Review/Summary | Review Panel.
12:15 p.m.-12:30 p.m | Public Comment | Public.
12:30 p.m.-1:30 p.m | Lunch
1:30 p.m.-2 p.m | Key Points/Wrap Up | Review Panel.
2 p.m.-4:30 p.m | Report Writing | Review Panel.
4:30 p.m | Adjourn

Wednesday, September 15, 2021
Time | Activity | Lead
9 a.m.-4:30 p.m | Report Writing | Review Panel.
4:30 p.m | Adjourn

The meeting is open to the public; however, during the `Report Writing' session on Tuesday, September 14th, and Wednesday, September 15th, the public should not engage in discussion with the Peer Review Panel.

Special Accommodations

This meeting is physically accessible to people with disabilities. Special requests should be directed to Michele Traver, via email.

Dated: September 10, 2021.
Jennifer M. Wallace,
Acting Director, Office of Sustainable Fisheries, National Marine Fisheries Service.

[FR Doc. 2021-19949 Filed 9-10-21; 4:15 pm]

BILLING CODE 3510-22-P